DEPARTMENT OF THE INTERIOR

National Park Service

National Register of Historic Places; Notification of Pending Nominations

Nominations for the following properties being considered for listing in the National Register were received by the National Park Service before September 15, 2001. Pursuant to section 60.13 of 36 CFR part 60 written comments concerning the significance of these properties under the National Register criteria for evaluation may be forwarded to the National Register, National Park Service, 1849 C St. NW., NC400, Washington, DC 20240. Written comments should be submitted by November 9, 2001.

Carol D. Shull,
Keeper of the National Register.

ALABAMA

Covington County

Opp Commercial Historic District, Roughly bounded by Covington Ave., Hart, Main, Whaley and College Sts., Opp, 01001164

Jefferson County

Norwood Boulevard Historic District, 2800-3624 Norwood Blvd., Birmingham, 01001166

Madison County

Lowry House, 1205 Kildare Ave., Huntsville, 01001165

Montgomery County

Cleveland Court Apartments 620-638, 620-638 Cleveland Ct., Montgomery, 01001167

Shelby County

Chancellor House, 51 Chancellor Ferry Rd., Harpersville, 01001168

St. Clair County

Pell City Downtown Historic District, 1900-2111 Cogwell Ave., 2008 1st Ave. S., 8 N. 21st St., 10 S. 20th St., Pell City, 01001169

Tuscaloosa County

Druid City Historic District (Boundary Increase), 3,4,5,6,7,8,10,11 College Park, 711-721 Queen City Ave., Tuscaloosa, 01001170

Wilcox County

Prairie Mission, \1/4\ mi. SE. of Jct. of AL 28 and McCall Rd., Catherine, 01001171

ARIZONA

Maricopa County

Tubercular Cabin, 6140 Skyline Dr., Cave Creek, 01001172

Pima County

Indian House Community Residential Historic District, Roughly bounded by 5th St., E. Wash, Kane Estates, and Sahura St., Tucson, 01001173

ARKANSAS

Mississippi County

Burdette School Complex Historic District, 153 E. Park Ln., Burdette, 01001174

Three States Lumber Company Mill Powerhouse, Old Mill Rd., Burdette, 01001175

Tompkins, Chris, House, 144 South Oak Dr., Burdette, 01001176

United States Highway 61 Arch, (Arkansas Highway History and Architecture MPS) US 61, Blytheville, 01001177

CALIFORNIA

Riverside County

Estudillo Mansion, 150 S. Dillon, San Jacinto, 01001178

San Francisco County

Lee, Don, Building, 1000 Van Ness Ave., San Francisco, 01001179

FLORIDA

Sarasota County

Southwick—Harmon House, 1830 Lincoln Dr., Sarasota, 01001180

GEORGIA

Union County

Raburn—Casteel House, US 129, 4 mi. N. of Blairsville, Blairsville, 01001181

MARYLAND

Baltimore Independent City

Tuscany-Canterbury Historic District, Roughly bounded by Charles St., University Pkwy., Stony Run, and Warrenton Rd., Baltimore, 01001182

Washington County

Keedysville Historic District, Along Main St., Keedysville, 01001183

Williamsport Historic District, Roughly bounded by C and O Canal, Conococheague Cr., Springfield Ln.,and W. Frederick St., Williamsport, 01001184

MASSACHUSETTS

Worcester County

North Brookfield Town House, 185 N. Main St., North Brookfield, 01001185

Old Douglas Center Historic District, Roughly bounded by Church, Common, Main, NW Main, SW Main and Webster Sts., Douglas, 01001186

NORTH CAROLINA

Orange County

Montrose, 320 St. Mary's Rd., Hillsborough, 01001187

NORTH DAKOTA

Burleigh County

Downtown Bismarck Historic District, Roughly bounded by Broadway and Thayer Aves., 5th St., Burlington and Santa Fe RR corridor, Washington and 2nd Sts., Bismarck, 01001188

[FR Doc. 01-26891 Filed 10-24-01; 8:45 am]

BILLING CODE 4310-70-P